NATIONAL AERONAUTICS AND SPACE ADMINISTRATION

[Notice 05-041]

NASA Advisory Council, Space Science Advisory Committee and Earth System Science and Applications Advisory Committee; Meeting

AGENCY: National Aeronautics and Space Administration (NASA).

ACTION: Notice of meeting.

SUMMARY: In accordance with the Federal Advisory Committee Act, Public Law 92-463, as amended, the National Aeronautics and Space Administration announces a forthcoming meeting of the NASA Advisory Council (NAC), Space Science Advisory Committee (SScAC) and Earth System Science and Applications Advisory Committee (ESSAAC).

DATES: Wednesday, March 30, 2005, 8 a.m. to 5:30 p.m., Thursday, March 31, 2005, 8 a.m. to 5:30 p.m., and Friday, April 1, 2005, 8:30 a.m. to 11:30 a.m.

ADDRESSES: Holiday Inn Capitol, 550 C Street SW., Washington, DC 20024.

FOR FURTHER INFORMATION CONTACT: Ms. Marian R. Norris, Science Mission Directorate, National Aeronautics and Space Administration, Washington, DC 20546, (202) 358-4452 or mnorris@nasa.gov.

SUPPLEMENTARY INFORMATION: The meeting will be open to the public up to the capacity of the room. The agenda for the meeting includes the following topics:

—Agency Overview

—Science Mission Directorate Overview

—Subcommittee Reports

—Selective Programs Update

—Strategic Roadmapping Plans and Status

—Science Integration Discussion

—Capabilities Roadmaps

—Discussion and Report Development

It is imperative that the meeting be held on these dates to accommodate the scheduling priorities of the key participants. Visitors to the meeting will be requested to sign a visitor's register.

Michael F. O'Brien,
Assistant Administrator for External Relations, National Aeronautics and Space Administration.

[FR Doc. 05-4628 Filed 3-8-05; 8:45 am]

BILLING CODE 7510-13-P